ENVIRONMENTAL PROTECTION AGENCY

[ER-FRL-6655-8]

Environmental Impact Statements and Regulations; Availability of EPA Comments

Availability of EPA comments prepared pursuant to the Environmental Review Process (ERP), under Section 309 of the Clean Air Act and Section 102(2)(c) of the National Environmental Policy Act, as amended. Requests for copies of EPA comments can be directed to the Office of Federal Activities at (202) 564-7167. An explanation of the ratings assigned to draft environmental impact statements (EISs) was published in the Federal Register dated April 2, 2004 (69 FR 17403).

Draft EISs

ERP No. D-COE-G39041-LA Rating LO, Programmatic EIS—Louisiana Coastal Area (LCA) Ecosystem Restoration Study, Implementation, Tentatively Selected Plan, Mississippi River, LA.

Summary: EPA has no objection to the selection of the Tentatively Selected Plan of Action, and supports the primary restoration strategies, namely, river reintroduction and barrier island/shoreline restoration.

ERP No. D-COE-K39086-CA Rating EC2, Matilija Dam Ecosystem Restoration Feasibility Study, Restoring Anadromous Fish Populations, Matilija Creek, Ventura River, Ventura County Watershed Protection District, Ventura County, CA.

Summary: EPA supports the proposed project. However, EPA has environmental concerns regarding the potential adverse impacts of a flooding event mobilizing a large quantity of sediment, as well as impacts regarding the proposed slurry disposal sites.

ERP No. D-FHW-E40801-00 Rating EC2, Interstate 69 Section of Independent Utility #9, Construction from the Interstate 55/MS State Route 304 Interchange in Hernando, MS to the Intersection of U.S. 51 and State Route 385 in Millington, TN, Desoto and Marshall Counties, MS, Shelby and Fayette Counties, MS.

Summary: EPA expressed concerns about aquatic resource impacts, land-use, noise, environmental justice, and connected and cumulative actions.

ERP No. D-FHW-J40164-MT Rating EC2, U.S.-2 Highway Corridor Improvement Project, Reconstruction between Havre to Fort Belknap to Replace the Aging U.S.-2 Facility, U.S. Army COE Section 404 Permit, Hill and Blaine Counties, MT.

Summary: EPA express concern about to riparian degradation and siltation of 303(d) listed Battle Creek.

ERP No. D-FHW-K40223-CA Rating EC2, South Orange County Transportation Infrastructure Improvement Project, To Locate, Construct and Operate Transportation Improvements, Orange and San Diego Counties, CA.

Summary: EPA expressed concerns about direct and indirect impacts to water resources, impacts to air and water quality from construction and operation, and cumulative impacts to species and habitats. EPA encourages the transportation agencies to commit to mitigation measures that compliment pending conversation plans in the region.

ERP No. DA-FTA-C40046-NY Rating LO, Erie Canal Harbor Project (formerly known as the Buffalo Inner Harbor Development Project) Updated Information on the Original Project, City of Buffalo, Erie County, NY.

Summary: EPA has no objection to the implementation of the proposed project.

ERP No. DS-COE-D36042-PA Rating LO, Wyoming Valley Levee Raising Project, Design Modification and Recreational Enhancements, Wilkes-Barre, Pennsylvania River Commons, Susquehanna River, Luzerne County, PA.

Summary: EPA had no objection to the proposed action.

Final EISs

ERP No. F-COE-C39016-PR, Port of The Americas Project, Development of a Deep-Draft Terminal at the Port of Ponce to Receive Post-Panamax Ships, COE Section 10 and 404 Permits, Municipalities of Guayanilla-Penuelas and Ponce, Puerto Rico.

Summary: Based on new information regarding port development and compensatory mitigation to offset unavoidable impacts to wetlands, EPA concluded that earlier objections to issuance of the Corps' CWA Section 404 Permit have been addressed. However, EPA requested that traffic models and emissions analyses be updated to incorporate new cargo volume projections.

ERP No. F-FHW-D40313-MD, MD-210 (Indian Head Highway) Multi-Modal Study, MD-210 Improvements between I-95/I-495 (Capitol Beltway) and MD-228 Funding and U.S. COE Section 404 Permit Issuance, Prince George's County, MD.

Summary: EPA's previous issues have been resolved, therefore, EPA has no objection to the proposed action.

Dated: September 14, 2004.
Robert W. Hargrove,
Director, NEPA Compliance Division, Office of Federal Activities.

[FR Doc. 04-20987 Filed 9-16-04; 8:45 am]

BILLING CODE 6560-50-P